ENVIRONMENTAL PROTECTION AGENCY

[FRL-8497-8]

Science Advisory Board Staff Office; Notification of a Public Teleconference of the Science Advisory Board Ecological Processes and Effects Committee

AGENCY: Environmental Protection Agency (EPA).

ACTION: Notice.

SUMMARY: The Environmental Protection Agency (EPA or Agency) Science Advisory Board (SAB) Staff Office announces a public teleconference of the SAB Ecological Processes and Effects Committee to discuss advisory activities for the coming year.

DATES: The SAB will hold a public teleconference on December 17, 2007. The teleconference will begin at 11 a.m. and end at 1 p.m. (Eastern Time).

FOR FURTHER INFORMATION CONTACT: Any member of the public wishing further information regarding the public teleconference may contact Dr. Thomas Armitage, Designated Federal Officer (DFO). Dr. Armitage may be contacted at the EPA Science Advisory Board (1400F), U.S. Environmental Protection Agency, 1200 Pennsylvania Avenue, NW., Washington, DC 20460; or via telephone/voice mail: (202) 343-9995; fax (202) 233-0643; or e-mail at: armitage.thomas@epa.gov. General information about the EPA SAB, as well as any updates concerning the teleconference announced in this notice, may be found in the SAB Web Site at: http://www.epa.gov/sab.

SUPPLEMENTARY INFORMATION: Pursuant to the Federal Advisory Committee Act, Public Law 92-463, notice is hereby given that the SAB Ecological Processes and Effects Committee (EPEC) will hold a public teleconference to discuss advisory activities for the coming year. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: The SAB EPEC has been asked to provide advice on two EPA activities in the coming year. To acquaint the EPEC with these activities, EPA will provide introductory briefings on: (1) The EPA Office of Research and Development Ecological Research Strategy and Multiyear Plan; (2) A methodology for deriving water quality criteria for protection of aquatic life based on mode of action. Preliminary background information on these activities follow. EPEC will also discuss possible additional self-initiated work.

Ecological Research Strategy and Multiyear Plan—EPA's Office of Research and Development (ORD) has requested that the SAB review the Agency's proposed Ecological Research Program Strategy and Multi-year Plan. The proposed research strategy is focused on developing an understanding of the ways in which management choices affect the type, quality, and magnitude of the goods and services received from ecosystems. ORD has requested that the SAB review the proposed approach and components of the research strategy and multiyear plan. ORD has also asked the SAB to comment on emerging research issues relative to ecosystem services.

Methodology for deriving water quality criteria for protection of aquatic life based on mode of action—EPA's Office of Water has developed a white paper that provides a scientific assessment of issues facing the Agency in deriving water quality criteria for chemicals such as pharmaceuticals and personal care products, particularly those exhibiting endocrine disrupting activity. The Office of Water has requested advice from the SAB on the overall approach and proposed scientific methodology for deriving water quality criteria for these compounds.

Availability of Meeting Materials: The draft agenda and other materials will be posted on the SAB Web Site at: http://www.epa.gov/sab prior to the teleconference.

Procedures for Providing Public Input: Interested members of the public may submit relevant written or oral information for the SAB Panel to consider during the public teleconference. Oral Statements: In general, individuals or groups requesting an oral presentation at a public teleconference will be limited to three minutes per speaker, with no more than a total of 30 minutes for all speakers. Interested parties should contact Dr. Armitage, DFO, in writing (preferably via e-mail) at the contact information noted above, no later than December 10, 2007 to be placed on a list of public speakers for the teleconference. Written Statements: Written statements should be received in the SAB Staff Office by December 10, 2007 so that the information may be made available to the SAB Panel members for their consideration. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Dr. Armitage at the phone number or e-mail address noted above, preferably at least ten days prior to the meeting to give EPA as much time as possible to process your request.

Dated: November 13, 2007.
Vanessa T. Vu,
Director, EPA Science Advisory Board Staff Office.

[FR Doc. E7-22661 Filed 11-19-07; 8:45 am]

BILLING CODE 6560-50-P